SMALL BUSINESS ADMINISTRATION

[Disaster Declaration #15177 and #15178]

ARKANSAS Disaster Number AR-00096

AGENCY: U.S. Small Business Administration.

ACTION: Amendment 1.

SUMMARY: This is an amendment of the Presidential declaration of a major disaster for Public Assistance Only for the State of ARKANSAS (FEMA-4318-DR), dated 06/15/2017.

Incident: Severe Storms, Tornadoes, Straight-line Winds, and Flooding.

Incident Period: 04/26/2017 through 05/19/2017.

DATES: Issued on 07/19/2017.

Physical Loan Application Deadline Date: 08/14/2017.

Economic Injury (EIDL) Loan Application Deadline Date: 03/15/2018.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416, (202) 205-6734.

SUPPLEMENTARY INFORMATION: The notice of the President's major disaster declaration for Private Non-Profit organizations in the State of ARKANSAS, dated 06/15/2017, is hereby amended to include the following areas as adversely affected by the disaster.

Primary Counties: Fulton, Searcy.

All other information in the original declaration remains unchanged.

(Catalog of Federal Domestic Assistance Numbers 59002 and 59008)

James E. Rivera,
Associate Administrator for Disaster Assistance.

[FR Doc. 2017-15611 Filed 7-25-17; 8:45 am]

BILLING CODE 8025-01-P